ENVIRONMENTAL PROTECTION AGENCY

[EPA-HQ-OPP-2016-0618; FRL-9954-80]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations of certain products containing the active ingredients dimethomorph, metiram, profenofos, propoxur, and sodium acifluorfen and to amend certain captan and propoxur product registrations to terminate one or more uses. For captan, if granted, the requests would terminate the last U.S. registered use on dichondra, grasses (lawn seed beds), turf (golf courses and sod farms), and turf grasses (golf courses and ornamentals in non-pastured areas). For propoxur, if granted, the requests would terminate the last indoor use of aerosol, spray, and liquid formulations, and terminate the last uses in food handling establishments and for indoor crack and crevice. The requests, if granted, would not cancel the last captan, dimethomorph, propoxur, and sodium acifluorfen products registered for use in the United States. The requests, if granted, would cancel the last profenofos and metiram products registered for use in the United States. EPA intends to grant these requests at the close of the comment period for this announcement unless the Agency receives substantive comments within the comment period that would merit its further review of the requests, or unless the registrants withdraw their requests. If these requests are granted, any sale, distribution, or use of products listed in this notice will be permitted after the affected registrations have been cancelled/use terminated only if such sale, distribution, or use is consistent with the terms as described in the final order.

DATES: Comments must be received on or before December 22, 2016.

ADDRESSES: Submit your comments, identified by docket identification (ID) number EPA-HQ-OPP-2016-0618, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Brittany Pruitt, Pesticide Re-Evaluation Division (7508P), Office of Pesticide Programs, Environmental Protection Agency, 1200 Pennsylvania Ave. NW., Washington, DC 20460-0001; telephone number: (703) 347-0289; email address: pruitt.brittany@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background on the Receipt of Requests To Cancel and/or Amend Registrations To Terminate Certain Uses

This notice announces receipt by EPA of requests from ABC Compounding Company, Inc.; Albaugh, LLC; Bonide Products, Inc.; BASF Corporation; Wellmark International; FMC Corporation; Summit Chemical Company; Sungro Products, LLC.; Syngenta Crop Protection; and Whitmore Micro-Gen to cancel certain product registrations or amend registrations to terminate certain uses of certain product registrations.

Captan is a broad spectrum fungicide registered for use on fruit and nut trees, grapes, berries, vegetables, corn, soybeans, cereal grains, and forage crops. In addition, captan is registered for use as a seed and seed piece treatment, as a preplant root dip, and as a post-harvest fruit dip. Captan is also registered for use on ornamentals and turf. In a letter dated October 5, 2016, Albaugh requested that EPA amend the technical and product registrations listed in Table 2 of Unit III of this document to terminate certain uses, including turf. If granted, the requests will result in termination of the last U.S. registered use of captan on dichondra, grasses (lawn seed beds), turf (golf courses and sod farms), and turf grasses (golf courses and ornamentals in non-pastured areas).

Dimethomorph is a systemic fungicide registered for use to control downy mildew, late blight, and crown and root rot on plants. It is a cinnamic acid derivative and a member of the morpholine chemical family. Dimethomorph is used on numerous agricultural crops including leafy vegetables, bulb vegetables, fruiting vegetables, potatoes, tobacco, and tomatoes. In a letter dated March 8, 2016, BASF Corporation requested that EPA cancel five product registrations containing dimethomorph, identified in Table 1 of Unit III. If granted, this request will not result in cancellation of the last dimethomorph pesticide products registered for use in the United States.

Metiram is a broad spectrum fungicide that belongs to the ethylene bisdithiocarbamate (EBDC) group of fungicides. Metiram is registered for use to control scab and rust diseases on apples, early and late blight diseases on potatoes, and anthracnose disease on leather leaf ferns. In letters dated September 28, 2016 and October 24, 2016, BASF Corporation requested that EPA cancel three metiram product registrations. These registrations are identified in Table 1 of Unit III. If granted, this request will result in the cancellation of the last metiram pesticide products registered for use in the United States.

Profenofos is an organophosphate insecticide registered for use on cotton. The main target pests for profenofos are lepidopterans; however, other alternatives are available. In a letter dated September 28, 2016, Syngenta Corporation requested that EPA cancel two product registrations containing profenofos. These registrations are identified in Table 1 of Unit III. If granted, this request will result in cancellation of the last profenofos pesticide products registered for use in the United States.

Propoxur is an insecticide registered for use to kill a variety of insects including crickets, ants, cockroaches, silverfish and other pests. It is registered for use in and around industrial, institutional, commercial, and residential facilities. The propoxur preliminary human health risk assessment (Propoxur: Human Health Preliminary Risk Assessment for Registration Review, May 22, 2015) identified dietary and residential post-application risks of concern for indoor crack and crevice applications (liquid and aerosol formulations) in institutional settings (i.e., hospitals, dormitories) and in food handling establishments (FHE). The technical registrant, Wellmark International, voluntarily requested amendments to terminate these uses to mitigate the risks of concern. The technical registrations were amended and the uses were terminated effective September 22, 2015 (80 FR 57179; FRL-9933-58). Subsequently, in letters dated April 11, 2016, April 12, 2016, April 27, 2016, May 6, 2016, and July 22, 2016, ABC Compounding Company, Inc., Wellmark International, FMC Corporation, Summit Chemical Company, Sungro Products, LLC., and Whitmore Micro-Gen requested that EPA cancel certain propoxur registrations and/or amend to terminate certain uses of propoxur pesticide product registrations identified in Tables 1 and 2 of Unit III. Specifically, the registrants requested that the following uses and formulations be terminated: all indoor aerosol, spray, and liquid formulations of propoxur; use in food handling establishments; and indoor crack and crevice use. If granted, these requests will result in cancellation of and/or amendment to terminate these uses of propoxur pesticide products registered in the United States. FMC Corporation, an end-use propoxur registrant, requested voluntary cancellation of their end-use propoxur product registered for the terminated uses with an effective cancellation date of December 31, 2017. EPA anticipates granting an effective cancellation date of December 31, 2017 for the propoxur product registrations identified in Tables 1 of Unit III, which will allow the registrants to sell and distribute existing stocks of these products until December 31, 2017. Thereafter, registrants will be prohibited from selling or distributing the propoxur products identified in Table 1 of Unit III., except for export consistent with FIFRA section 17 (7 U.S.C. 136o) or for proper disposal.

Sodium acifluorfen is a selective, diphenyl ether herbicide and a light dependent peroxidizing herbicide (LDPH) registered for use for post-emergent weed control on soybeans, peanuts, rice, and strawberries. In a letter dated February 26, 2016, Bonide Products Inc. requested that EPA cancel one product registration containing sodium acifluorfen identified in Table 1 of Unit III. If granted, this request will cancel the last sodium acifluorfen pesticide product registered for residential use in the United States.

III. What action is the agency taking?

This notice announces receipt by EPA of requests from registrants to cancel certain product registrations of dimethomorph, metiram, profenofos, propoxur, and sodium acifluorfen and to amend certain captan and propoxur product registrations to terminate one or more uses. The affected products and the registrants making the requests are identified in Tables 1-3 of this unit.

Unless requests are withdrawn by the registrants or if the Agency determines that there are substantive comments that warrant further review of these requests, EPA intends to issue an order canceling the affected registrations and amending to terminate certain uses of the affected registrations for which the Agency received use termination requests.

Table 1—Dimethomorph, Metiram, Profenofos, Propoxur and Sodium Acifluorfen Product Registrations With Pending Requests for Cancellation
Registration No. | Product name | Company
4-433 | Bonide Kleen up Grass and Weed Killer, Ready to Use | Bonide Products Inc.
100-598 | Profenofos Technical | Syngenta Crop Protection.
100-699 | Curacron 8E | Syngenta Crop Protection.
279-3395 | CB Invader with Propoxur | FMC Corporation.
241-383 | Acrobat MZ Fungicide | BASF Corporation.
241-395 | Acrobat MZ WDG Fungicide | BASF Corporation.
241-410 | Acrobat 50 WP Fungicide | BASF Corporation.
241-411 | Stature MZ Fungicide | BASF Corporation.
241-419 | Stature DM Fungicide | BASF Corporation.
3862-135 | Drop Dead | ABC Compounding Company, Inc.
6218-24 | Permacide Plus | Summit Chemical Company.
7969-105 | Polyram 80 DF | BASF Corporation.
7969-321 | Cabrio Plus Fungicide | BASF Corporation.
11556-33 | Sendran Technical | Bayer Healthcare, LLC.
89459-39 | Prentox Prenbay 1.5 BC | Central Garden & Pet Company.
89459-28 | Prentox Prenbay 1% Oil | Central Garden & Pet Company
FL980001 | Polyram 80 DF | BASF Corporation.

Table 2—Captan and Propoxur Product Registrations With Pending Requests for Amendment
Registration No. | Product name | Company | Uses to be terminated
42750-230 | Captan Technical | Albaugh LLC | Turf (golf courses and sod farms), seed beds and greenhouse bench treatment.
42750-231 | Captan 80 DF | Albaugh LLC | Dichondra, turf grasses (golf courses, ornamental in non-pastured areas only), grasses (lawn seedbeds), turf (sod farms).
42750-235 | Captan 50% WP | Albaugh LLC | Dichondra, turf grasses (ornamentals in non-pastured areas only), grasses (lawn seedbeds).
42750-236 | Captan 39.75% FL | Albaugh LLC | Dichondra, turf grasses (ornamental in non-pastured areas only), grasses (lawn seed beds).
84396-12 | Sungro Residual Spray | Sungro Products, LLC | Indoor aerosol, spray, and liquid formulations; use in food handling establishments and indoor crack and crevice use.

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Amendments
EPA company No. | Company name and address
4 | Bonide Products, Inc., 6301 Sutliff Road, Oriskany, NY 13424.
100 | Syngenta Crop Protection, P.O. Box 18300, Greensboro, NC 27419.
241 | BASF Corporation, 29 Davis Drive, Research Triangle Park, NC 27709.
279 | FMC Corporation, 1735 Market Street, Philadelphia, PA 19103.
3862 | ABC Compounding Company, Inc., P.O. Box 16247, Atlanta, GA 30321.
6218 | Summit Chemical Company, 8322 Sharon Drive, Frederick, MD 21704.
11556 | Bayer Healthcare, LLC., P.O. Box 390, Shawnee Mission, KS 66201.
7696 | BASF Corporation, P.O. Box 13528, Research Triangle Park, NC. 27709.
42750 | Albaugh LLC., P.O. Box 2127, Valdosta, GA 31604-2127.
84396 | Sungro Products, LLC., 810 E. 18th Street, Los Angeles, CA 90021.
89459 | Central Garden & Pet Company, 1501 E. Woodfield Road, Suite 200, West Schaumburg, IL 60173.

IV. What is the agency's authority for taking this action?

Section 6(f)(1) of FIFRA (7 U.S.C. 136d(f)(1)) provides that a registrant of a pesticide product may at any time request that any of its pesticide registrations be cancelled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The captan, dimethomorph, metiram, profenofos, propoxur and sodium acifluorfen registrants have requested that EPA waive the 180-day comment period. Accordingly, EPA will provide a 30-day comment period on the proposed requests.

V. Procedures for Withdrawal of Requests

Registrants who choose to withdraw a request for product cancellation or use termination should submit the withdrawal in writing to the person listed under FOR FURTHER INFORMATION CONTACT. If the products(s) have been subject to a previous cancellation action, the effective date of cancellation and all other provisions of any earlier cancellation action are controlling.

VI. Provisions for Disposition of Existing Stocks

Existing stocks are those stocks of registered pesticide products that are currently in the United States and that were packaged, labeled, and released for shipment prior to the effective date of the action. If the requests for voluntary cancellation and amendments to terminate uses are granted, the Agency intends to publish the cancellation order in the Federal Register.

In any order issued in response to these requests for cancellation of product registrations and for amendments to terminate uses, EPA proposes to include the following provisions for the treatment of any existing stocks of the products listed in Tables 1 and 2 of Unit III.

A. For Propoxur Products 279-3395, 3862-135, 6218-24, 11556-33, 89459-39, 89459-28 Identified in Table 1 of Unit III

FMC Corporation requested that the voluntary cancellation of propoxur begin on December 31, 2017. EPA anticipates allowing the registrants to sell and distribute existing stocks of these products until December 31, 2017, which will be the effective product cancellation date. Thereafter, registrants will be prohibited from selling or distributing the propoxur products identified in Table 1 of Unit III., except for export consistent with FIFRA section 17 (7 U.S.C. 136o) or for proper disposal.

Persons other than the registrant may sell, distribute, or use existing stocks of the affected cancelled products until supplies are exhausted, provided that such sale, distribution, or use is consistent with the terms of the previously approved labeling on, or that accompanied, the cancelled products.

B. For All Other Products Identified in Table 1 of Unit III

For the other voluntary product cancellations noted, registrants will be permitted to sell and distribute existing stocks of voluntarily cancelled products for 1 year after the effective date of the cancellation, which will be the date of publication of the cancellation order in the Federal Register. Thereafter, registrants will be prohibited from selling or distributing the products identified in Table 1 of Unit III., except for export consistent with FIFRA section 17 (7 U.S.C. 136o) or for proper disposal.

Once EPA has approved product labels reflecting the requested amendments to terminate uses, the registrant will be permitted to sell or distribute products under the previously approved labeling for a period of 18 months after the date of Federal Register publication of the cancellation order, unless other restrictions have been imposed. Thereafter, the registrant will be prohibited from selling or distributing the products whose labels include the deleted uses identified in Table 2 of Unit III., except for export consistent with FIFRA section 17 or for proper disposal.

Persons other than the registrant may sell, distribute, or use existing stocks of the affected cancelled products until supplies are exhausted, provided that such sale, distribution, or use is consistent with the terms of the previously approved labeling on, or that accompanied, the cancelled products.

Authority: 7 U.S.C. 136 et seq.

Dated: November 14, 2016.
Yu-Ting Guilaran,
Director, Pesticide Re-Evaluation Division, Office of Pesticide Programs.

[FR Doc. 2016-28096 Filed 11-21-16; 8:45 am]

BILLING CODE 6560-50-P